DEPARTMENT OF COMMERCE

International Trade Administration

[A-351-824]

Silicomanganese From Brazil: Final Results of Antidumping Duty Administrative Review

AGENCY: Import Administration, International Trade Administration, Department of Commerce.

SUMMARY: On December 8, 2004, the Department of Commerce published the preliminary results of the administrative review of the antidumping duty order on silicomanganese from Brazil. The review covers exports of this merchandise to the United States by the collapsed parties, Rio Doce Manganes S.A. (RDM), Companhia Paulista de Ferro-Ligas (CPFL), and Urucum Mineraç o S.A. (Urucum) (collectively, RDM/CPFL), for the period December 1, 2002, through November 30, 2003. We gave interested parties an opportunity to comment on the preliminary results. Based on our analysis of the comments received, we did not revise our calculations for these final results. The final weighted-average margin is listed below in the “Final Results of Review” section of this notice.

EFFECTIVE DATE: April 13, 2005.

FOR FURTHER INFORMATION CONTACT: Dmitry Vladimirov at (202) 482-0665 or Minoo Hatten at (202) 482-1690, AD/CVD Operations, Office 5, Import Administration, International Trade Administration, U.S. Department of Commerce, 14th Street and Constitution Avenue, NW., Washington, DC 20230.

SUPPLEMENTARY INFORMATION:

Background

On December 8, 2004, we published the preliminary results of review (see Silicomanganese from Brazil: Preliminary Results of Antidumping Duty Administrative Review, 69 FR 71011, (December 8, 2004) (Preliminary Results)), and invited parties to comment. On January 24, 2004, RDM/CPFL filed case briefs. Eramet Marietta (the petitioner) did not file case or rebuttal briefs.

The Department of Commerce (the Department) has conducted this review in accordance with section 751(a) of the Tariff Act of 1930, as amended (the Act).

Scope of Order

The merchandise covered by this order is silicomanganese. Silicomanganese, which is sometimes called ferrosilicon manganese, is a ferroalloy composed principally of manganese, silicon and iron, and normally contains much smaller proportions of minor elements, such as carbon, phosphorous and sulfur. Silicomanganese generally contains by weight not less than 4 percent iron, more than 30 percent manganese, more than 8 percent silicon, and not more than 3 percent phosphorous. All compositions, forms, and sizes of silicomanganese are included within the scope of this review, including silicomanganese slag, fines, and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040. This scope covers all silicomanganese, regardless of its tariff classification.

Although the HTSUS subheadings are provided for convenience and customs purposes, the written description of the scope remains dispositive.

Analysis of Comments Received

All issues raised in RDM/CPFL's case brief in the context of this administrative review are addressed in the “Issues and Decision Memorandum” from Barbara E. Tillman, Acting Deputy Assistant Secretary for Import Administration, to Joseph A. Spetrini, Acting Assistant Secretary for Import Administration, dated April 7, 2005 (Decision Memorandum), which is hereby adopted by this notice. Attached to this notice as an appendix is a list of the issues that RDM/CPFL has raised and to which we have responded in the Decision Memorandum. Parties can find a complete discussion of all issues raised in this review and the corresponding recommendations in this public memorandum, which is on file in the Central Records Unit, Room B-099 of the main Department of Commerce building. In addition, a complete version of the Decision Memorandum can be accessed directly on the Internet at http://ia.ita.doc.gov/frn. The paper copy and electronic version of the Decision Memorandum are identical in content.

Sales Below Cost in the Home Market

As discussed in detail in the preliminary results, the Department disregarded certain home-market below-cost sales that failed the cost test. See Preliminary Results, 69 FR 71014. The Department also disregarded below-cost home-market sales for these final results.

Changes Since the Preliminary Results

Based on our analysis of the comments received, we did not make changes in the margin calculation for the final results. See also “Final Results Analysis Memorandum of RDM/CPFL” from Dmitry Vladimirov to the File, dated April 7, 2005.

Final Results of Review

As a result of our review, we determined that a margin of 0.00 percent exists for RDM/CPFL for the period December 1, 2002, through November 30, 2003.

Duty Assessment and Cash-Deposit Requirements

The Department will determine, and U.S. Customs and Border Protection (CBP) shall assess, antidumping duties on all appropriate entries. In accordance with 19 CFR 351.212(b)(1), we have calculated an importer-specific assessment rate. The Department will issue appropriate assessment instructions directly to CBP within 15 days of publication of these final results of review. The following deposit requirements will be effective upon publication of the final results of this administrative review for all shipments of silicomanganese from Brazil entered, or withdrawn from warehouse, for consumption on or after the publication date of the final results, as provided by section 751(a)(2)(C) of the Act: (1) The cash-deposit rate for RDM/CPFL is 0.00 percent; (2) for merchandise exported by producers or exporters that were previously reviewed or investigated, the cash deposit will continue to be the most recent rate published in the final determination or final results for which the producer or exporter received an individual rate; (3) if the exporter is not a firm covered in this review, a prior review, or the original less-than-fair-value (LTFV) investigation but the manufacturer is, the cash-deposit rate will be the rate established for the most recent period for the manufacturer of the subject merchandise; and (4) if neither the exporter nor the manufacturer is a firm covered in this or any previous review, the cash-deposit rate shall be 17.60 percent, the all-others rate established in the LTFV investigation. See Notice of Final Determination of Sales at Less Than Fair Value: Silicomanganese from Brazil, 59 FR 55432, (November 7, 1994). These deposit requirements shall remain in effect until publication of the final results of the next administrative review.

Notification of Interested Parties

This notice serves as a final reminder to importers of their responsibility under 19 CFR 351.402(f) to file a certificate regarding the reimbursement of antidumping duties prior to liquidation of the relevant entries during the review period. Failure to comply with this requirement could result in the Secretary's presumption that reimbursement of antidumping duties occurred and the subsequent assessment of double antidumping duties.

This notice also serves as a reminder to parties subject to administrative protective orders (APO) of their responsibility concerning the disposition of proprietary information disclosed under APO as explained in the administrative protective order itself. Timely written notification of the return/destruction of APO materials or conversion to judicial protective order is hereby requested. Failure to comply with the regulations and terms of an APO is a sanctionable violation.

These final results of administrative review and notice are issued and published in accordance with sections 751(a)(1) and 777(i)(1) of the Act.

Dated: April 7, 2005.
Joseph A. Spetrini,
Acting Assistant Secretary for Import Administration.

Appendix—Issues in the Decision Memorandum

Comment 1. Affiliation with Certain Home-Market Customers

Comment 2. Purchases of Raw Materials From Affiliates' Subsidiaries

Comment 3. Presumed Tax Credit

Comment 4. Comparable Merchandise

Comment 5. Inventory Carrying Cost

[FR Doc. E5-1741 Filed 4-12-05; 8:45 am]

BILLING CODE 3510-DS-P